FEDERAL COMMUNICATIONS COMMISSION

47 CFR Parts 1, 27, 74, 90, and 101

[DA 04-2591; WT Docket No. 01-319; FCC 04-23]

Practice and Procedure, Miscellaneous Wireless Communications Services, Experimental Radio, Auxiliary, Special Broadcast and Other Program Distributional Services, Private Land Mobile Radio Services, Fixed Microwave Services

AGENCY: Federal Communications Commission.

ACTION: Final rule; correction.

SUMMARY: The Federal Communications Commission published in the Federal Register of April 6, 2004, (69 FR 17946), a document in the Quiet Zones proceeding, WT Docket No. 01-319, which incorrectly indicated in its DATES section that 47 CFR 1.924(a)(2) and 1.924(d)(2) contained information collection modifications that have not been approved by the Office of Management Budget (OMB). This document corrects the DATES section of the April 6, 2004 document as set forth below.

DATES: Effective June 7, 2004.

FOR FURTHER INFORMATION CONTACT: Linda C. Chang, Federal Communications Commission, Wireless Telecommunications Bureau, 445 12th St., Washington, DC 20554, (202) 418-0620.

SUPPLEMENTARY INFORMATION:

Background

The FCC published a document in the Federal Register of April 6, 2004, (69 FR 17946) regarding the adoption of changes to rules relating to areas known as “Quiet Zones.” In FR Doc. 04-7799, the document provided that the effective date of the document was June 7, 2004, except for 47 CFR 1.924(a)(2) and 1.924(d)(2) which were incorrectly identified as containing a new or modified information collection that required approval by OMB prior to becoming effective. Because 47 CFR 1.924(a)(2) and 1.924(d)(2) are not in fact subject to approval by OMB, the effective date of the April 6, 2004 document became effective, in its entirety, on June 7, 2004. This document corrects the document published in the Federal Register of April 6, 2004 (69 FR 17946) and September 23, 2004 (69 FR 56956) in the Quiet Zones proceeding, WT Docket No. 01-319 by correcting the DATES section.

Federal Communications Commission.
Linda C. Chang,
Associate Division Chief, Mobility Division.

[FR Doc. 04-26742 Filed 12-3-04; 8:45 am]

BILLING CODE 6712-01-P